NUCLEAR WASTE TECHNICAL REVIEW BOARD

Board Meeting; January 9, 2012, Arlington, VA

The U.S. Nuclear Waste Technical Review Board will meet to discuss integration efforts undertaken by DOE-NE and DOE-EM.

Pursuant to its authority under section 5051 of Public Law 100-203, Nuclear Waste Policy Amendments Act of 1987, the U.S. Nuclear Waste Technical Review Board will hold a public meeting in Arlington, Virginia, on Monday, January 9, 2012. The theme of the meeting is integration within the U.S. Department of Energy Office of Nuclear Energy (DOE-NE) and the Office of Environmental Management (DOE-EM). Speakers from DOE-NE will discuss a major study being undertaken by DOE-NE that is looking at a range of fuel-cycle alternatives. They also will present work being undertaken to ensure that spent nuclear fuel (SNF) currently in storage at reactor sites can be transported either to a centralized storage facility or to a geologic repository. Speakers from DOE-EM will describe efforts being made at four DOE facilities to prepare DOE-owned SNF and high-level radioactive waste (HLW) for disposition.

The meeting will begin at 8 a.m. and will be held at the Ritz-Carlton Hotel, 1250 South Hayes Street, Arlington, Virginia 22202; (Tel) (703) 415-5000; (Fax) (703) 415-5060. A block of rooms has been reserved at the hotel for meeting attendees. To ensure receiving the federal government rate of $183.00 per night, room reservations must be made in the “NWTRB” room block by Friday, December 16. The number to call for reservations is 1 (800) 241-3333. The electronic reservation link is https://www.ritzcarlton.com/en/Properties/PentagonCity/Reservations/Default.htm?nr=l&ci=1:8:2012&ng=l&co=1:9:2012&up=false#top.

A detailed agenda will be available on the Board's Web site at www.nwtrb.gov approximately one week before the meeting. The agenda also may be obtained by telephone request at that time.

The meeting will be open to the public, and an opportunity for public comment will be provided at the end of the day. Those wanting to speak are encouraged to sign the “Public Comment Register” at the check-in table. A time limit may need to be set for individual remarks, but written comments of any length may be submitted for the record.

A transcript of the meeting will be available on the Board's Web site, by email, on computer disk, and on library-loan in paper form from Davonya Barnes of the Board's staff after January 31, 2012.

The Board was established as an independent federal agency to provide ongoing objective expert advice to Congress and the Secretary of Energy on technical issues related to nuclear waste management and to review the technical validity of DOE activities related to implementing the Nuclear Waste Policy Act. Board members are experts in their fields and are appointed to the Board by the President from a list of candidates submitted by the National Academy of Sciences. The Board is required to report to Congress and the Secretary no fewer than two times each year. Board reports, correspondence, congressional testimony, and meeting transcripts and materials are posted on the Board's Web site.

For information on the meeting agenda, contact Karyn Severson. For information on lodging or logistics, contact Linda Coultry. They can be reached at 2300 Clarendon Boulevard, Suite 1300; Arlington, VA 22201-3367; (tel) (703) 235-4473; (fax) (703) 235-4495.

December 1, 2011.
Nigel Mote,
Executive Director, U.S. Nuclear Waste Technical Review Board.

[FR Doc. 2011-31351 Filed 12-9-11; 8:45 am]

BILLING CODE 6820-AM-M